DEPARTMENT OF COMMERCE

National Oceanic and Atmospheric Administration

RIN 0648-XC655

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene a workshop of subject matter experts on Interrelationships between Coral Reef and Fisheries.

DATES: The workshop will convene at 1 p.m. on Monday, May 20 and conclude by 4 p.m. on Wednesday, May 22, 2013.

ADDRESSES: The meeting will be held at the Hilton Hotel located at 2225 North Lois Avenue, Tampa, FL 33607; telephone: (813) 877-6688.

Council address: Gulf of Mexico Fishery Management Council, 2203 N. Lois Avenue, Suite 1100, Tampa, FL 33607.

FOR FURTHER INFORMATION CONTACT: Dr. Stephen Bortone, Executive Director and Mr. Mark Mueller, GIS Analyst; Gulf of Mexico Fishery Management Council; telephone: (813) 348-1630.

SUPPLEMENTARY INFORMATION: The workshop on Interrelationships between Coral Reefs and Fisheries will examine topics related to linkages between corals and fisheries, management, threats and consequences, and future research. Presentations will include information on distribution and diversity of coral reefs and associated fisheries; current management of corals and fisheries (by staff from the National Oceanic and Atmospheric Administration and the Gulf, South Atlantic, Caribbean and Western Pacific Fishery Management Councils); critical linkages and interrelationships of form, function and life history; interactions within and among coral, seagrass & mangrove ecosystems; review and discussion of the various threats to coral/fishery health such as oil spills, invasive species, climate effects and coral diseases; spatial ecology methods and databases; short and long-term consequences of impacts to coral health; mitigation of coral losses; and future research needs and directions.

Copies of the agenda and other related materials can be obtained by calling (813) 348-1630 or can be downloaded from the Council's ftp site, ftp.gulfcouncil.org, in the Coral folder.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council (see ADDRESSES) at least 5 working days prior to the meeting.

Dated: April 30, 2013.
Tracey L. Thompson,
Acting Deputy Director, Office of Sustainable Fisheries, National Marine Fisheries Service.

[FR Doc. 2013-10519 Filed 5-2-13; 8:45 am]

BILLING CODE 3510-22-P